Title 3—

The President

Proclamation 9660 of October 13, 2017

National Character Counts Week, 2017

By the President of the United States of America

A Proclamation

We celebrate National Character Counts Week because few things are more important than cultivating strong character in all our citizens, especially our young people. The grit and integrity of our people, visible throughout our history, defines the soul of our Nation. This week, we reflect on the character of determination, resolve, and honor that makes us proud to be American.

As President Reagan declared, “There is no institution more vital to our Nation's survival than the American family. Here the seeds of personal character are planted, the roots of public virtue first nourished.” Character is built slowly. Our actions—often done first out of duty—become habits ingrained in the way we treat others and ourselves. As parents, educators, and civic and church leaders, we must always work to cultivate strength of character in our Nation's youth.

Character can be hard to define, but we see it in every day acts—raising and providing for a family with loving devotion, working hard to make the most of an education, and giving back to devastated communities. These and so many other acts big and small constitute the moral fiber of American culture. Character is forged around kitchen tables, built in civic organizations, and developed in houses of worship. It is refined by our choices, large and small, and manifested in what we do when we think no one is paying attention.

As we strive every day to improve our character and that of our Nation, we pause and thank those individuals whose strength of character has inspired us and who have provided a supporting hand during times of need. In particular, we applaud families as they perform the often thankless task of raising men and women of character.

NOW, THEREFORE, I, DONALD J. TRUMP, President of the United States of America, by virtue of the authority vested in me by the Constitution and the laws of the United States, do hereby proclaim October 15 through October 21, 2017, as National Character Counts Week. I call upon public officials, educators, parents, students, and all Americans to observe this week with appropriate ceremonies, activities, and programs.

IN WITNESS WHEREOF, I have hereunto set my hand this thirteenth day of October, in the year of our Lord two thousand seventeen, and of the Independence of the United States of America the two hundred and forty-second.

[FR Doc. 2017-22930

Filed 10-19-17; 8:45 am]

Billing code 3295-F8-P